DEPARTMENT OF THE INTERIOR

Bureau of Indian Affairs

Announcement of Vacancy on the Osage Tribal Education Committee

AGENCY: Bureau of Indian Affairs, Interior.

ACTION: Notice.

SUMMARY: The Bureau of Indian Affairs is announcing that a vacancy has occurred on the Osage Tribal Education Committee. This vacancy is the Member at Large Representative. The purpose of this notice is to solicit nominations from individuals or Osage organizations who would nominate persons for the vacancy.

DATES: Applications and nominations must be received on or before April 17, 2000.

ADDRESSES: You may send applications and nominations to: Osage Tribal Education Committee, c/o Oklahoma Area Education Office, 4149 Highline Blvd., Oklahoma City, OK 73108.

FOR FURTHER INFORMATION CONTACT: Joy Martin, Education Line Officer, at 405-605-6051.

SUPPLEMENTARY INFORMATION: Pursuant to 25 CFR 122.5 and the Overall Plan of Operation for the Osage Tribal Education Committee, the Bureau is seeking nominations from individuals or Osage organizations who would nominate persons for the vacancy. The requirements of the Member at Large are:

(a) Must be an adult person of Osage Indian blood who is an allottee or a descendant of an allottee; and

(b) May include residents who are living anywhere in the United States.

The nominee or his/her representative organization should submit a brief statement requesting that he/she be considered as a candidate for the vacancy and the reason for desiring to serve on the committee. If nominated by an Osage organization, a written statement from the nominee stating his/her willingness to serve on the committee must be included with the Osage organization nomination.

Applications and nominations must be received no later than April 17, 2000. Nominations shall be delivered by registered mail to the address listed in the ADDRESSES section.

This notice is published in accordance with authority delegated by the Secretary of the Interior to the Assistant Secretary—Indian Affairs by 209 DM 8.

Dated: March 3, 2000.
Kevin Gover,
Assistant Secretary—Indian Affairs.

[FR Doc. 00-6525 Filed 3-15-00; 8:45 am]

BILLING CODE 4310-02-P